SMALL BUSINESS ADMINISTRATION

13 CFR Part 125

RIN 3245-AG85

Ownership and Control of Service-Disabled Veteran-Owned Small Business Concerns; Correction

AGENCY: U.S. Small Business Administration.

ACTION: Correcting amendment.

SUMMARY: The U.S. Small Business Administration (SBA) is correcting regulations that published in the Federal Register on September 28, 2018. The rule issued one definition of ownership and control for the Department of Veterans Affairs verification of Veteran-Owned (VO) and Service-Disabled Veteran-Owned (SDVO) Small Business Concerns (SBCs) with the SBA. This document is making one technical correction to the regulations.

DATES: Effective February 23, 2021.

FOR FURTHER INFORMATION CONTACT: Ed Bender, U.S. Small Business Administration, Office of General Counsel, 409 Third Street SW, Washington, DC 20416; (202) 205-6455; edmund.bender@sba.gov.

SUPPLEMENTARY INFORMATION: In response to the provisions of the National Defense Authorization Act for Fiscal Year 2017 (NDAA 2017), SBA issued regulations relating to ownership and control for the Department of Veterans Affairs verification of Veteran-Owned (VO) and Service-Disabled Veteran-Owned (SDVO) Small Business Concerns (SBCs) with the SBA. 83 FR 48908. Pursuant to NDAA 2017, SBA issued one definition of ownership and control for these concerns, which applies to the Department of Veterans Affairs in its verification and Vets First Contracting Program procurements, and all other government acquisitions which require self-certification. The legislation also provided that in certain circumstances a firm can qualify as VO or SDVO when there is a surviving spouse or an employee stock ownership plan (ESOP).

In response to the NDAA 2017 changes, SBA amended the definitions in § 125.11 by incorporating language from VA's regulations and also from SBA's 8(a) Business Development (BD) program regulations. 13 CFR part 124, subpart A. In making these amendments, SBA inadvertently removed the definition of “interested party.” This rule adds back the definition.

List of Subjects in 13 CFR Part 125

Government contracts, Government procurement, Reporting and recordkeeping requirements, Small businesses, Technical assistance.

Accordingly, 13 CFR part 125 is corrected by making the following correcting amendment:

PART 125—GOVERNMENT CONTRACTING PROGRAMS

1. The authority citation for part 125 continues to read as follows:

Authority: 15 U.S.C. 632(p), (q), 634(b)(6), 637, 644, 657f, 657q, 657r, and 657s; 38 U.S.C. 501 and 8127.

2. Amend § 125.11 by adding in alphabetical order the definition of “Interested Party” to read as follows:

§ 125.11 What definitions are important in the Service-Disabled Veteran-Owned (SDVO) Small Business Concern (SBC) Program?

* * * * *

Interested Party means the contracting activity's contracting officer, SBA, any concern that submits an offer for a specific sole source or set-aside SDVO contract or order (including Multiple Award Contracts), or any concern that submitted an offer in full and open competition and its opportunity for award will be affected by a reserve of an award given to a SDVO SBC.

* * * * *

John W. Klein,
Acting Associate Administrator, Government Contracting and Business Development.

[FR Doc. 2021-03007 Filed 2-22-21; 8:45 am]

BILLING CODE 8026-03-P